DEPARTMENT OF HEALTH AND HUMAN SERVICES

Centers for Disease Control and Prevention

Disease, Disability, and Injury Prevention and Control Special Emphasis Panel (SEP): Field Trails To Evaluate Efficacy of Natural Products for the Control of the Tick Vectors of Lyme Disease Spirochetes, Funding Opportunity Announcement (FOA) CK08-001; Evaluation of Reservoir-Targeted Vaccine Formulations To Prevent Enzootic Transmission of Borrelia Burgdorferi (Lyme Borreliosis), FOA CK08-002

In accordance with Section 10(a)(2) of the Federal Advisory Committee Act (Pub. L. 92-463), the Centers for Disease Control and Prevention (CDC) announces the aforementioned meeting:

Time and Date: 8 a.m.-5 p.m., February 8, 2008 (Closed).

Place: Sheraton Gateway Atlanta Airport Hotel, 1900 Sullivan Road, Atlanta, Georgia 30337, Telephone (770) 997-1100.

Status: The meeting will be closed to the public in accordance with provisions set forth in Section 552b(c) (4) and (6), Title 5 U.S.C., and the Determination of the Director, Management Analysis and Services Office, CDC, pursuant to Public Law 92-463.

Matters To Be Discussed: The meeting will include the review, discussion, and evaluation of “Field Trails to Evaluate Efficacy of Natural Products for the Control of the Tick Vectors of Lyme Disease Spirochetes, FOA Number CK08-001; Evaluation of Reservoir-Targeted Vaccine Formulations to Prevent Enzootic Transmission of Borrelia Burgdorferi (Lyme Borreliosis), FOA Number CK08-002.”

Contact Person for More Information: Shoukat Qari, D.V.M., Ph.D., Scientific Review Administrator, Strategic Science and Program Unit, Office of the Director, Coordinating Center for Infectious Diseases, CDC, 1600 Clifton Road, Mailstop C-19, Atlanta, GA, Telephone (404) 639-8942.

The Director, Management Analysis and Services Office, has been delegated the authority to sign Federal Register notices pertaining to announcements of meetings and other committee management activities, for both CDC and the Agency for Toxic Substances and Disease Registry.

Dated: December 12, 2007.
Elaine L. Baker,
Director, Management Analysis and Services Office, Centers for Disease Control and Prevention.

[FR Doc. E7-24643 Filed 12-18-07; 8:45 am]

BILLING CODE 4163-18-P